FEDERAL DEPOSIT INSURANCE CORPORATION

[OMB No. 3064-0046; -0118; -0174; 0188 and -0202]

Agency Information Collection Activities: Proposed Collection Renewal; Comment Request

AGENCY: Federal Deposit Insurance Corporation (FDIC).

ACTION: Notice and request for comment.

SUMMARY: The FDIC, as part of its obligations under the Paperwork Reduction Act of 1995, invites the general public and other Federal agencies to take this opportunity to comment on the request to renew the existing information collections described below (OMB Control No. 3064-0046; -0118; -0174; 0188 and -0202). The notices of proposed renewal for these information collections were previously published in the Federal Register on December 9, 2025 and December 15, 2025, allowing for a 60-day comment period. No comments have been received in response to the 60-day Federal Register notices.

DATES: Comments must be submitted on or before March 19, 2026.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Attorney, MB-3013, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find these information collections by selecting “Currently under 30-day Review—Open for Public Comments” or by using the search function.

FOR FURTHER INFORMATION CONTACT: Robert Meiers, Regulatory Attorney, Romeiers@fdic.gov, MB-3013, Federal Deposit Insurance Corporation, 550 17th Street NW, Washington, DC 20429.

SUPPLEMENTARY INFORMATION:

Proposal to renew the following currently approved collection of information:

1. Title: Home Mortgage Disclosure (HMDA).

OMB Number: 3064-0046.

Form Number: N/A

Affected Public: Insured state nonmember banks.

Burden Estimate:

Summary of Estimated Annual Burden (OMB No. 3064-0046)
Information collection (IC) (obligation to respond) | Type of burden (frequency of response) | Number of respondents | Number of responses per respondent | Average time per response (HH:MM) | Annual burden (hours)
Full Data—HMDA (12 CFR 1003.4(a) and 1003.5(a)(3)) | Reporting (Annual) | 353 | 1,237 | 00:35 | 254,719
Partial Data—HMDA (12 CFR 1003.4(a) and 1003.5(a)(3)) | Reporting (Annual) | 1,078 | 170 | 00:20 | 61,087
Retain copy of LAR for at least three years (12 CFR 1003.5(a)(1)(i)) | Recordkeeping (Annual) | 1,431 | 1 | 00:30 | 716
Make the written notices required under 12 CFR 1003.5(b)(2) and 1003.5(c)(1) available for five and three years, respectively (12 CFR 1003.5(d)(1)) | Recordkeeping (Annual) | 1,431 | 1 | 00:10 | 239
Record LAR data within 30 days after the end of the calendar quarter in which final action is taken (New reporters) (12 CFR 1003.4(f)) | Recordkeeping (One time) | 192 | 1 | 12:00 | 2,304
Record LAR data within 30 days after the end of the calendar quarter in which final action is taken (All reporters) (12 CFR 1003.4(f)) | Recordkeeping (Quarterly) | 1,431 | 4 | 01:30 | 8,586
Provide written notice upon request that the FFIEC disclosure statement is available on the CFPB's website (12 CFR 1003.5(b)(2)) | Third-party Disclosure (Annual) | 1,431 | 1 | 00:30 | 716
Provide written notice upon request that the institution's modified LAR is available on the CFPB's website (12 CFR 1003.5(c)(1)) | Third-party Disclosure (On Occasion) | 1,431 | 1 | 00:30 | 716
Make the FFIEC disclosure statement and/or modified LAR available to the public directly through the institution (12 CFR 1003.5(d)(2)) | Third-party Disclosure (On Occasion) | 72 | 1 | 01:00 | 72
General notice of availability of HMDA data in lobby of home office and each branch office located in each MSA and each MD (12 CFR 1003.5(e)) | Third-party Disclosure (One time) | 192 | 1 | 01:00 | 192
Total Annual Burden (Hours) |  |  |  |  | 329,347
Source: FDIC.

General Description of Collection: The Board of Governors of the Federal Reserve System (the Board) promulgated Regulation C, 12 CFR part 203, to implement the Home Mortgage Disclosure Act (HMDA), 12 U.S.C. 2801-2810. Regulation C requires depository institutions that meet its asset-size threshold to maintain data about home loan applications (the type of loan requested, the purpose of the loan, whether the loan was approved, and the type of purchaser if the loan was later sold), to update the information quarterly, and to report the information annually. Pursuant to Regulation C, insured state-nonmember banks supervised by the FDIC with assets over a certain dollar threshold must collect, record, and report data about home loan applications. The total estimated annual burden for this information collection is 329,347 hours. This represents a 44 percent decrease from the 2022 information collection. The decrease is driven by a reduction in the estimated number of responses per respondent.

2. Title: Management Official Interlocks.

OMB Number: 3064-0118.

Form Number: N/A.

Affected Public: Insured state nonmember banks and state savings associations.

Burden Estimate:

Summary of Estimated Annual Burden (OMB No. 3064-0118)
Information collection (IC) (obligation to respond) | Type of burden (frequency of response) | Number of respondents | Number of responses per respondent | Average time per response (HH:MM) | Annual burden (hours)
1. Management Official Interlocks (Mandatory) | Reporting (On Occasion) | 3 | 1 | 09:00 | 27
2. Management Official Interlocks (Mandatory) | Recordkeeping (On Occasion) | 3 | 1 | 06:00 | 18
Total Annual Burden (Hours) |  |  |  |  | 45
Source: FDIC.

General Description of Collection: The FDIC's Management Official Interlocks regulation, 12 CFR 348, which implements the Depository Institutions Management Interlocks Act (DIMIA), 12 U.S.C. 3201-3208, generally prohibits bank management officials from serving simultaneously with two unaffiliated depository institutions or their holding companies but allows the FDIC to grant exemptions in appropriate circumstances. Consistent with DIMIA, the FDIC's Management Official Interlocks regulation has an application requirement requiring information specified in the FDIC's procedural regulation. The rule also contains a notification requirement. There is no change in the method or substance of the collection. The increase of 38 hours from 7 in 2023 to the current estimate of 45 hours is due to an increase in respondents and revised estimates of time per response for applications and recordkeeping.

3. Title: Funding and Liquidity Risk Management.

OMB Number: 3064-0174.

Form Number: N/A.

Affected Public: Businesses or other for-profits.

Burden Estimate:

Summary of Estimated Annual Burden (OMB No. 3064-0174)
Information collection (IC) (obligation to respond) | Type of burden (frequency of response) | Number of respondents | Number of responses per respondent | Average time per response (HH:MM) | Annual burden (hours)
Strategies, Policies, Procedures, and Risk Tolerances (Voluntary) | Recordkeeping (Annual) | 2,854 | 1 | 6:45 | 19,265
Liquidity Risk Measurement, Monitoring, and Reporting (Voluntary) | Recordkeeping (Monthly) | 2,854 | 12 | 9:30 | 325,356
Total Annual Burden (Hours) |  |  |  |  | 344,621
Source: FDIC.

General Description of Collection: The information collection includes reporting and recordkeeping burdens related to sound risk management principles applicable to insured depository institutions. To enable an institution and its supervisor to evaluate the liquidity risk exposure of an institution's individual business lines and for the institution as a whole, the Interagency Policy Statement on Funding and Liquidity Risk Management (Interagency Statement) summarizes principles of sound liquidity risk management and advocates the establishment of policies and procedures that consider liquidity costs, benefits, and risks in strategic planning. In addition, the Interagency Statement encourages the use of liquidity risk reports that provide detailed and aggregate information on items such as cash flow gaps, cash flow projections, assumptions used in cash flow projections, asset and funding concentrations, funding availability, and early warning or risk indicators. This is intended to enable management to assess an institution's sensitivity to changes in market conditions, the institution's financial performance, and other important risk factors. There is no change in the substance of this collection. The estimated annual burden for this ICR is 344,621 hours per year. This estimate represents a 32 percent decrease from the 2023 ICR estimate of 503,881 hours per year. The decrease is driven by the change in methodology for estimating the burden for each response.

4. Title: Appraisals for Higher-Priced Mortgage Loans.

OMB Number: 3064-0188.

Form Number: N/A.

Affected Public: Insured state nonmember banks and state savings associations.

Burden Estimate:

Summary of Estimated Annual Burden (OMB No. 3064-0188)
Information collection (IC) (obligation to respond) | Type of Burden (frequency of response) | Number of Respondents | Number of responses per respondent | Average time per response (HH:MM) | Annual burden (hours)
1. Disclose to applicant that the IDI may obtain an appraisal for the property, 12 CFR Part 1026.35(c)(5)(i) (Mandatory) | Disclosure (On Occasion) | 2,743 | 10.25 | 00:01 | 469
2. Provide copy of written appraisal to the consumer, 12 CFR Part 1026.35(c)(6)(i) (Mandatory) | Disclosure (On Occasion) | 2,743 | 11.03 | 00:08 | 4,034
3. Provide documentation of property value to the consumer in lieu of an appraisal, 12 CFR Part 1026.35(c)(2)(viii)(B) (Mandatory) | Disclosure (On Occasion) | 2,743 | 5.07 | 00:05 | 1,159
Total Annual Burden (Hours) |  |  |  |  | 5,662
Source: FDIC.

General Description of Collection: Section 1471 of the Dodd-Frank Act established a new Truth in Lending (TILA) section 129H, which contains appraisal requirements applicable to higher-risk mortgages and prohibits a creditor from extending credit in the form of a higher-risk mortgage loan to any consumer without meeting those requirements. A higher-risk mortgage is defined as a residential mortgage loan secured by a principal dwelling with an annual percentage rate (APR) that exceeds the average prime offer rate (APOR) for a comparable transaction as of the date the interest rate is set by certain enumerated percentage point spreads. The rule requires that, within three days of application, a creditor provide a disclosure that informs consumers regarding the purpose of the appraisal, that the creditor will provide the consumer a copy of any appraisal, and that the consumer may choose to have a separate appraisal conducted at the expense of the consumer. If a loan meets the definition of a higher-risk mortgage loan, then the creditor would be required to obtain a written appraisal prepared by a certified or licensed appraiser who conducts a physical visit of the interior of the property that will secure the transaction and send a copy of the written appraisal to the consumer. To qualify for the safe harbor provided under the rule, a creditor is required to review the written appraisal as specified in the text of the rule and appendix A. If a loan is classified as a higher-risk mortgage loan that will finance the acquisition of the property to be mortgaged, and the property was acquired within the previous 180 days by the seller at a price that was lower than the current sale price, then the creditor is required to obtain an additional appraisal. A creditor is required to provide the consumer a copy of the appraisal reports performed in connection with the loan, without charge, at least days prior to consummation of the loan. There is no change in the method or substance of the collection. The decrease of 1,750 hours from 7,412 in 2022 to the current estimate of 5,662 hours is due to a decrease in respondents and number of responses per respondent.

1. Title: Recordkeeping for Timely Deposit Insurance Determination.

OMB Number: 3064-0202.

Form Number: N/A.

Affected Public: Insured state nonmember banks and state savings associations.

Burden Estimate:

Summary of Estimated Annual Burden (OMB No. 3064-0202)
Information collection (IC) (obligation to respond) | Type of burden (frequency of response) | Number of respondents | Number of responses per respondent | Average time per response (HH:MM) | Annual burden (hours)
1. Implementation—Lowest Complexity, 12 CFR 370 (Mandatory) | Recordkeeping (Annual) | 1 | 1 | 3145:00 | 3,145
2. Implementation—Medium Complexity, 12 CFR 370 (Mandatory) | Recordkeeping (Annual) | 1 | 1 | 5960:00 | 5,960
3. Implementation—Highest Complexity, 12 CFR 370 (Mandatory) | Recordkeeping (Annual) | 1 | 0.333 | 36307:00 | 0
4. Ongoing—Lowest Complexity, 12 CFR 370 (Mandatory) | Recordkeeping (Annual) | 10 | 1 | 5:00 | 50
5. Ongoing—Medium Complexity, 12 CFR 370 (Mandatory) | Recordkeeping (Annual) | 11 | 1 | 60:00 | 660
6. Ongoing—Highest Complexity, 12 CFR 370 (Mandatory) | Recordkeeping (Annual) | 5 | 1 | 20:00 | 100
7. Request for Exception, 12 CFR 370.8(b) (RtoB) | Reporting (On occasion) | 1 | 1 | 20:00 | 20
8. Request for Release, 12 CFR 370.8(c) (RtoB) | Reporting (On occasion) | 1 | 1 | 20:00 | 20
9. Request for Extension, 12 CFR 370.6(b) (RtoB) | Reporting (On occasion) | 1 | 1 | 20:00 | 20
10. Request for Exemption, 12 CFR 370.8(a) (RtoB) | Reporting (On occasion) | 1 | 1 | 20:00 | 20
11. Annual Certification and Report, 12 CFR 370.10(a) (Mandatory) | Reporting (Annual) | 29 | 1 | 5:00 | 145
12. Written information to Account Holder, 12 CFR 370.5(a) (Mandatory) | Disclosure (Annual) | 29 | 1 | 1:00 | 29
Total Annual Burden (Hours) |  |  |  |  | 10,169
Source: FDIC.
RtoB—Required to Receive Benefits.
Line 3 of the table FDIC expects no entities to file but has kept that line item with 0 burden in case needed for future IC renewal cycle.

General Description of Collection: When a bank fails, the FDIC must provide depositors insured funds “as soon as possible” after failure while also resolving the failed bank in the least costly manner. The 12 CFR part 370 facilitates prompt payment of FDIC insured deposits when large insured depository institutions fail. The rule requires insured depository institutions that have two million or more deposit accounts (covered institutions), to maintain complete and accurate data on each depositor's ownership interest by right and capacity for all of the covered institution's deposit accounts. The covered institutions are required to develop the capability to calculate the insured and uninsured amounts for each deposit owner, by ownership right and capacity, for all deposit accounts. This data would be used by the FDIC to make timely deposit insurance determinations in the event of a covered insured depository institution's failure. There is no change in the method or substance of the collection. The decrease of 42,483 hours from 52,652 hours in 2023 to the current estimate of 10,169 hours is due the elimination of the implementation burden for the Highest Complexity covered insured depository institutions (IDIs) and the reduction in the times per response.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on February12, 2026.
Jennifer M. Jones,
Deputy Executive Secretary.

[FR Doc. 2026-03082 Filed 2-13-26; 8:45 am]

BILLING CODE 6714-01-P